SECURITIES AND EXCHANGE COMMISSION

17 CFR Parts 229, 239, 240, 249 and 274

[Release Nos. 33-9070A; 34-60797A; IC-28942A; File No. S7-24-09]

RIN 3235-AK41

Credit Ratings Disclosure

AGENCY: Securities and Exchange Commission.

ACTION: Proposed rule; correction.

SUMMARY: This document corrects the file number in the preamble to a proposed rule regarding credit ratings disclosure published in the Federal Register of Thursday, October 15, 2009 (74 FR 53086). The file number should read as set forth above.

FOR FURTHER INFORMATION CONTACT: Questions concerning this correction should be directed to Linda Cullen, Office of the Secretary, at (202) 551-5402.

Correction

In FR Doc. E9-24546 published on October 15, 2009, (74 FR 53086) beginning on page 53086, make the following corrections:

1. On page 53086, first column, in the ADDRESSES section, second bullet under Electronic Comments, 3rd line, revise “S7-20-09” to read “S7-24-09”; and

2. On page 53086, first column, in the ADDRESSES section, under Paper Comments, 2nd line from the bottom revise “S7-20-09” to read “S7-24-09”; and

3. On page 53103, first column, second paragraph, 12th and 8th lines from the bottom, revise “S7-20-09” to read “S7-24-09”.

Dated: October 22, 2009.
Elizabeth M. Murphy,
Secretary.

[FR Doc. E9-25813 Filed 10-26-09; 8:45 am]

BILLING CODE 8011-01-P